DEPARTMENT OF THE INTERIOR

National Park Service

Mammoth Cave National Park; Environmental Assessment

AGENCY: National Park Service.

ACTION: Notice of document availability.

SUMMARY: (Authority: 16 U.S.C. 3; 16 U.S.C. 5; 16 U.S.C. 79; Director's Order 53). Mammoth Cave National Park will release for public review the Environmental Assessment regarding placement of a wireless telecommunication facility (WTF). Kentucky RSA #3 Cellular General Partnership d/b/a Bluegrass Cellular has proposed to construct a telecommunications facility (WTF) at the Hickory Cabin Fire Tower site within Mammoth Cave National Park, a unit of the National Park Service. It is the responsibility of Mammoth Cave National Park and the purpose of the Environmental Assessment to evaluate the impacts of the proposed wireless telecommunication facility on the park environs. The Environmental Assessment addresses the proposed placement and one alternative placement of the Wireless Telecommunication facility within the park.

DATES: The Environmental Assessment will be released in June 2004 and will be available for public review for at least 30 days at the Office of the Superintendent and online at the Mammoth Cave National Park Web site http://www.nps.gov/maca/pphtml/documents.html.

FOR FURTHER INFORMATION CONTACT: Henry Holman, Management Assistant, 270-758-2187.

SUPPLEMENTARY INFORMATION: Copies of the document can be requested by writing to the Superintendent, P.O. Box 7, Mammoth Cave, Kentucky 42259 or by e-mail addressed to Henry_Holman@nps.gov.

Dated: April 7, 2004.
Patricia A. Hooks,
Regional Director, Southeast Region.

[FR Doc. 04-11472 Filed 5-20-04; 8:45 am]

BILLING CODE 4312-52-P